ENVIRONMENTAL PROTECTION AGENCY

[EPA-HQ-OPPT-2018-0408; FRL 9990-07]

Certain New Chemical Substances; Receipt and Status Information for September 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA section 5, including notice of receipt of a Premanufacture Notice (PMN), Significant New Use Notice (SNUN) or Microbial Commercial Activity Notice (MCAN), including an amended notice or test information; an exemption application (Biotech exemption); an application for a Test Marketing Exemption (TME), both pending and/or concluded; a Notice of Commencement (NOC) of manufacture (including import) for new chemical substances; and a periodic status report on new chemical substances that are currently under EPA review or have recently concluded review. This document covers the period from September 1, 2018 to September 30, 2018.

DATES: Comments identified by the specific case number provided in this document must be received on or before April 22, 2019.

ADDRESSES: Submit your comments, identified by docket identification (ID) number EPA-HQ-OPPT-2018-0408, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from September 1, 2018 to September 30, 2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995 (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier versions were rejected as incomplete or invalid submissions. Note also that future versions of the following tables may adjust slightly as the Agency works to automate population of the data in the tables.

Table I—PMN/SNUN/MCANs Received From 9/1/2018 to 9/30/2018
Case No. | Version | Received date | Manufacturer | Use | Chemical substance
J-18-0045 | 1 | 09/27/2018 | CBI | (G) Ethanol production | (G) Biofuel producing Saccharomyces cerevisiae modified, genetically stable.
P-16-0104A | 2 | 09/27/2018 | CBI | (G) This material is used as a feed stock for another intermediate | (S) 2-pyridinecarboxylic acid, 4,5-dichloro-6-(4-chloro-2-fluoro-3-methoxyphenyl.
P-16-0309A | 4 | 09/28/2018 | CBI | (G) PMN substances are intended for use as rheological or thixotropic agents used in the production of solvent based industrial coatings, high solid aromatic paints, adhesives, sealants, and other types of paints and topcoats | (G) 12-hydroxystearic acid, reaction products with alkylene diamine and alkanoic acid.
P-16-0310A | 4 | 09/28/2018 | CBI | (G) PMN substances are intended for use as rheological or thixotropic agents used in the production of solvent based industrial coatings, high solid aromatic paints, adhesives, sealants, and other types of paints and topcoats | (G) 12-hydroxystearic acid, reaction products with alkylene diamine and alkanoic acid.
P-16-0354A | 3 | 09/21/2018 | CBI | (G) Intermediate | (G) Esteramine.
P-16-0355A | 3 | 09/21/2018 | CBI | (G) Intermediate | (G) Esteramine.
P-16-0380A | 5 | 09/28/2018 | CBI | (G) Component in electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products acetates (salts).
P-16-0381A | 5 | 09/28/2018 | CBI | (G) Component in electrocoat resin | (G) Propanoic acid, 2-hydroxy-, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products formates (salts).
P-16-0382A | 5 | 09/28/2018 | CBI | (G) Component of an electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products sulfamates(salts).
P-16-0383A | 5 | 09/28/2018 | CBI | (S) Anti-crater additive for automotive electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products acetates (salts).
P-16-0384A | 5 | 09/28/2018 | CBI | (G) Component of an electrocoat resin | (G) Propanoic acid, 2-hydroxy-, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products formates (salts).
P-16-0385A | 5 | 09/28/2018 | CBI | (G) Component of electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products sulfamates(salts).
P-16-0442A | 3 | 09/24/2018 | CBI | (G) Polymer for coatings | (G) Carboxylic acids, unsaturated, polymers with disubstituted amine, alkanediol, substituted alkylpropanoic acid, alkanedioic acid and substituted isocyanatocycloalkane, compds. with alkylamine.
P-16-0443A | 3 | 09/24/2018 | CBI | (G) Polymer for coatings | (G) Carboxylic acids, unsaturated, hydrogenated polymers with disubstituted amine, alkanediol, substituted alkylpropanoic acid, alkanedioic acid and substituted isocyanatocycloalkane, compds. with alkylamine.
P-16-0444A | 3 | 09/24/2018 | CBI | (G) Polymer for coatings | (G) Amine salted polyurethane.
P-16-0445A | 3 | 09/24/2018 | CBI | (G) Polymer for coatings | (G) Carboxylic acids, unsaturated, hydrogenated polymers with substituted alkanediamine, alkanediol, substituted alkylpropanoic acid, alkanedioic acid and substituted isocyanatocycloalkane, compds. with alkylamine.
P-16-0539A | 4 | 09/14/2018 | CBI | (G) Photolithography | (G) Organic sulfonate compound.
P-16-0583A | 4 | 09/27/2018 | CBI | (S) Sealant for head lamps of cars | (G) Aromatic hydrocarbon resin.
P-17-0016A | 4 | 09/24/2018 | CBI | (G) Polymer for coatings | (G) Hydroxyl alkyl acrylate ester, polymer with acrylates, aromatic vinyl monomer, cycloaliphatic lactone, and alkyl carboxylic acid, peroxide initiated.
P-17-0017A | 4 | 09/24/2018 | CBI | (G) Polymer for coatings | (G) Hydroxyl alkyl acrylate ester, polymer with acrylates, aromatic vinyl monomer, cycloaliphatic lactone, and alkyl carboxylic acid, peroxide initiated.
P-17-0018A | 4 | 09/24/2018 | CBI | (G) Polymer for coatings | (G) Hydroxyl alkyl acrylate ester, polymer with acrylates, aromatic vinyl monomer, cycloaliphatic lactone, and alkyl carboxylic acid, azobis[aliphatic nitrile] initiated.
P-17-0019A | 4 | 09/24/2018 | CBI | (G) Polymer for coatings | (G) Hydroxyl alkyl acrylate ester, polymer with acrylates, aromatic vinyl monomer, cycloaliphatic lactone, and alkyl carboxylic acid, peroxide initiated.
P-17-0020A | 4 | 09/24/2018 | CBI | (G) Polymer for coatings | (G) Hydroxyl alkyl acrylate ester, polymer with acrylates, aromatic vinyl monomer, cycloaliphatic lactone, and alkyl carboxylic acid, peroxide initiated.
P-17-0021A | 4 | 09/24/2018 | CBI | (G) Polymer for coatings | (G) Hydroxyl alkyl acrylate ester, polymer with acrylates, aromatic vinyl monomer, cycloaliphatic lactone, and alkyl carboxylic acid, azobis[aliphatic nitrile] initiated.
P-17-0144A | 2 | 09/07/2018 | Designer Molecules, Inc | (G) Coating component | (S) Amines, c36-alkylenedi-, polymers with octahydro-4,7-methano-1h-indenedimethanamine and pyromellitic dianhydride, maleated.
P-17-0184A | 4 | 09/24/2018 | Colonial Chemical, Inc | (S) Liquid Laundry Detergent | (S) 1-propanaminium, 2-hydroxy-n, n-dimethyl-n-[3-[(1-oxooctyl-amino]propyl]-3-sulfo-, inner salt.
P-17-0207A | 4 | 09/24/2018 | CBI | (G) Paint | (G) 2-alkenoic acid, 2 alkyl, 2 alkyl ester, polymer with alkyl alkenoate, carbomonocyle, alkyl alkenoate and alkyl alkenoate, alkyl peroxide initiated.
P-17-0234A | 4 | 09/11/2018 | CBI | (S) Adhesive intermediate | (S) Oxirane, 2-(chloromethyl)-, polymer with 2-methyloxirane polymer with oxirane bis(2-aminopropyl) ether.
P-17-0282A | 10 | 09/14/2018 | Elantas PDG, Inc. | (S) This is a component of a mixture that is used as an impregnating varnish for stators and motors | (S) Isocyanic acid, polymethylenepolyphenylene ester, caprolactam- and phenol-blocked.
P-17-0298A | 2 | 09/06/2018 | GE Water & Process Technolo­gies | (S) The notified substance is described as a hydrogen sulfide scavenger used in controlling hydrogen sulfide in the vapor space of fuel storage, shipping vessels and pipelines. It is designed to reduce the health, safety and environmental hazards of handling fuels containing H2S. The substance reacts selectively with (neutralizes) and removes H2S to help meet product and process specifications | (S) Formaldehyde, homopolymer, reaction products with n-propyl-1-propanamine.
P-17-0339A | 5 | 09/25/2018 | Sasol Chemicals (USA), LLC | (S) Paints, (S) Industrial/Commercial Surfactant, (S) Metal working Fluid, (S) Agricultural chemicals, (S) Agricultural chemicals | (S) Poly(oxy-1,2-ethanediyl), a-(2-butyloctyl)-w-hydroxy-.
P-17-0340A | 5 | 09/25/2018 | Sasol Chemicals (USA), LLC | (S) Industrial/Commercial Surfactant, (S) Metal working Fluid, (S) Paints, (S) Metal working Fluid, (S) Agricultural chemicals, (S) Agricultural chemicals, (S) Paints, (S) Industrial/Commercial Surfactant | (S) Poly(oxy-1,2-ethanediyl), a-(2-hexyldecyl)-w-hydroxy-.
P-17-0341A | 5 | 09/25/2018 | Sasol Chemicals (USA), LLC | (S) Paints, (S) Paints, (S) Metal working Fluid, (S) Industrial/Commercial Surfactant, (S) Agricultural chemicals, (S) Industrial/Commercial Surfactant, (S) Metal working Fluid, (S) Agricultural chemicals | (S) Alcohols, c16-20-branched, ethoxylated.
P-17-0342A | 5 | 09/25/2018 | Sasol Chemicals (USA), LLC | (S) Agricultural chemicals, (S) Agricultural chemicals | (S) Poly(oxy-1,2-ethanediyl), a-(2-octyldodecyl)-w-hydroxy-.
P-17-0382A | 3 | 09/18/2018 | Chemtura Corporation | (S) Friction Modifier for Automotive lubricants (i.e., Motor oil, Transmission fluid, Differential fluid) | (S) Amides, tallow, n,n-bis(2-hydroxypropyl).
P-17-0387A | 4 | 09/24/2018 | CBI | (G) Paint | (G) Dicarboxylic acids, polymers with alkanoic acid, alkanediol, susbtituted-alkylalkanoic acid, substituted alkyl carbomonocyle, alkanedioic acid and alkanediol, alkanolamine blocked, compds. with alkanolamine.
P-17-0388A | 4 | 09/24/2018 | CBI | (G) Paint | (G) Dicarboxylic acids, polymers with alkanoic acid, alkanediol, susbtituted-alkylalkanoic acid, substituted alkyl carbomonocyle, alkanedioic acid and alkanediol, alkanolamine blocked, compds with alkanolamine.
P-17-0393A | 4 | 09/25/2018 | Allnex USA, Inc | (G) UV Curable Coating Resin | (G) Alkanediamine, dialkyl-, polymer with a-hydro-w-[(1-oxo-2-propen-1-yl)oxy]poly(oxy-1,2-ethanediyl) ether with substituted alkyl-substituted-alkanediol, reaction products with alkyl-alkanamine.
P-18-0018A | 3 | 09/04/2018 | Kyodo Yushi USA, Inc | (G) Lubricant | (G) Fluorinated acrylate, polymer with alkyloxirane homopolymer monoether with alkanediol mono(2-methyl-2-propenoate), tert-Bu 2-ethylhexaneperoxoate-initiated.
P-18-0057A | 8 | 09/10/2018 | CBI | (S) A drier accelerator that is used for superior drying performance in solvent-borne and waterborne air-dried paints, inks and coatings | (S) Vanadium, tris(2-ethylhexanoato-ko)tri-µ-oxotri-, cyclo.
P-18-0057A | 9 | 09/21/2018 | CBI | (S) A drier accelerator that is used for superior drying performance in solvent-borne and waterborne air-dried paints, inks and coatings | (S) Vanadium, tris(2-ethylhexanoato-ko)tri-µ-oxotri-, cyclo.
P-18-0070A | 8 | 09/12/2018 | Arrowstar, LLC | (G) Chemical intermediate for polyurethane industry | (G) Waste plastics, polyester, depolymd. with glycols, polymers with dicarboxylic acids.
P-18-0078A | 2 | 09/10/2018 | CBI | (G) Paint | (G) 2-alkenoic acid, 2-alkyl-, 2-alkyl ester, polymer with alkyl 2-alkenoate, 2-substitutedalkyl 2-alkenoate and 2-substitutedalkyl 2-alkyl-2-alkenoate, tert alkylperoxoate initiated.
P-18-0078A | 3 | 09/24/2018 | CBI | (G) Paint | (G) 2-alkenoic acid, 2-alkyl-, 2-alkyl ester, polymer with alkyl 2-alkenoate, 2-substitutedalkyl 2-alkenoate and 2-substitutedalkyl 2-alkyl-2-alkenoate, tert alkylperoxoate initiated.
P-18-0084A | 4 | 09/21/2018 | ShayoNano USA, Inc | (S) Additive for paints and coatings | (S) Silicon zinc oxide.
P-18-0088A | 2 | 09/14/2018 | CBI | (G) Oil and gas production | (G) Di(substituted-1,3-trialkylammonium) dialkylammonium salt.
P-18-0091A | 2 | 09/11/2018 | Greenwich Chemical Consulting, Inc | (S) Intermediate for use in the manufacture of polymers | (G) Vegetable oil, polymers with diethylene glycol- and polyol- and polyethylene glycol-depolymd. poly(ethylene terephthalate) waste plastics and arylcarboxylic acid anhydride.
P-18-0092A | 4 | 09/05/2018 | Shell Chemical LP—Martinez Catalyst Plant | (G) The TBPMI chemical is used as a catalyst, the catalyst is imported and used in the manufacture of monoethlyene glycol (MEG) | (S) Phosphonium, tributylmethyl-, iodide (1:1).
P-18-0100A | 2 | 09/17/2018 | Allnex USA, Inc | (G) UV Curable Coating Resin | (G) Substituted alkanoic acid polymer with alkylcarbonate, alkanediols and isocyanate substituted carbomonocycles, sodium salt, alkanoic acid-substituted polyol reaction products-blocked.
P-18-0100A | 5 | 09/19/2018 | Allnex USA, Inc | (G) UV Curable Coating Resin | (G) Substituted alkanoic acid polymer with alkylcarbonate, alkanediols and isocyanate substituted carbomonocycles, sodium salt, alkanoic acid-substituted polyol reaction products-blocked.
P-18-0102A | 3 | 09/17/2018 | Allnex USA, Inc | (G) UV Curable Coating Resin | (G) Alkanoic acid, ester with [oxybis(alkylene)]bis[alkyl-substituted alkanediol], polymer with alkylcarbonate, alkanediols, substituted alkanoic acid and isocyanate and alkyl substituted carbomonocycle, sodium salt.
P-18-0102A | 5 | 09/19/2018 | Allnex USA, Inc | (G) UV Curable Coating Resin | (G) Alkanoic acid, ester with [oxybis(alkylene)]bis[alkyl-substituted alkanediol], polymer with alkylcarbonate, alkanediols, substituted alkanoic acid and isocyanate and alkyl substituted carbomonocycle, sodium salt.
P-18-0104A | 5 | 09/04/2018 | CBI | (S) Halogen free flame retardant in thermoplastic polymers | (G) Acrylic acid, reaction products with pentaerythritol, polymerized.
P-18-0109A | 2 | 09/07/2018 | CBI | (G) Additive, open, non-dispersive use | (G) 2-alkenoic acid, 2-alkyl-, alkyl ester, polymer with 2-(dialkylamino)alkyl 2-alkyl-2-alkenoate, alkyl 2-alkyl-2-alkenoate and ¿-(2-alkyl-1-oxo-2-alken-1-yl)-¿-alkoxypoly(oxy-1,2-alkanediyl), [(1-alkoxy-2-alkyl-1-alken-1-yl)oxy]trialkylsilane-initiated.
P-18-0116A | 3 | 09/14/2018 | CBI | (G) Intermediate for industrial chemical | (G) Fatty acid oil reaction product with fatty acid oil.
P-18-0133A | 2 | 09/19/2018 | CBI | (G) Component in hydraulic fracturing fluids | (G) Polyol adduct of bisaldehyde.
P-18-0137A | 2 | 09/07/2018 | Wacker Chemical Corporation | (S) For improved water protection of construction materials, like cement fiber board | (G) Alkylsilsesquioxane, ethoxy-terminated.
P-18-0160A | 2 | 09/18/2018 | CBI | (G) Coating component | (G) Heteropolycyclic, halo substituted alkyl substituted- diaromatic amino substituted carbomonocycle, halo substituted alkyl substituted heteropolycyclic, tetraaromatic metalloid salt (1:1).
P-18-0172A | 6 | 09/04/2018 | CBI | (S) Category of use: By function and application, i.e., a dispersive dye for finishing polyester fibers). Calcium is an auxiliary drier that is used solely in combination with primary and secondary driers. It can also be used as a pigment wetting agent and loss of dry additive. Calcium itself has no drying effect on binders that dry by oxidation. However, it yields synergistic effects in combination with primary driers such as cobalt, manganese and Borchi OXY-Coat, and with secondary driers such as zirconium. When added during the dispersion, it prevents adsorption of the primary driers by the pigments thereby stabilizing surface dry. Calcium also promotes pigment wetting to improve film gloss. Applications 10% Calcium Cem-All® driers are based on a blend of carboxylate metal salts and are designed for Solventborne coatings only. Calcium driers are used in all oxidatively cured systems, whether air or force dried. They are used in architectural paints, industrial coatings and stains. Dosage In conventional alkyd formulations, the Calcium addition is between 0.03-0.30% metal based on the vehicle solids of the coating and will vary depending upon the composition of the binder. The specific drier blend should be experimentally determined. Higher levels might be needed if added to the dispersion to prevent drier adsorption. Calcium drier can be added to the dispersion and/or in the letdown with other driers | (S) Calcium, carbonate 2-ethylhexanoate neodecanoate propionate complex.
P-18-0179A | 5 | 09/10/2018 | CBI | (G) Adhesive | (G) Phenol, polymer with formaldehyde and phenolic resin, sodium salt.
P-18-0180A | 5 | 09/10/2018 | CBI | (G) Adhesive | (G) Phenol, polymer with formaldehyde and phenolic resin, potassium salt.
P-18-0181A | 5 | 09/10/2018 | CBI | (G) Adhesive | (G) Phenol, polymer with formaldehyde and phenolic resin, potassium sodium salt.
P-18-0182 | 3 | 09/18/2018 | Georgia Institute of Technology | (S) For heat transfer, heat storage, thermal emission, and general temperature management in heat-generating systems such as electronics (S) For light absorption properties (S) To improve mechanical properties or electrical conductivities of other materials or products | (G) Multiwalled carbon nanotubes.
P-18-0185A | 2 | 09/11/2018 | Allnex USA, Inc | (S) Adhesion-enhancing resin for wood applications | (G) Fatty acid, polymer with alkanedioic acid dialkyl ester, hydroxyl alkyl substituted alkanediol, substituted carbomonocycle and alkylol substituted alkane.
P-18-0185A | 3 | 09/21/2018 | Allnex USA, Inc | (S) Adhesion-enhancing resin for wood applications | (G) Fatty acid, polymer with alkanedioic acid dialkyl ester, hydroxyl alkyl substituted alkanediol, substituted carbomonocycle and alkylol substituted alkane.
P-18-0227A | 2 | 09/10/2018 | CBI | (G) Corrosion inhibitor (G) Chemical intermediate | (S) D-glucaric acid.
P-18-0235A | 4 | 09/05/2018 | CBI | (S) Component in automotive gasoline/transportation fuel for consumer use | (G) Naphtha oils.
P-18-0235A | 6 | 09/12/2018 | CBI | (S) Component in automotive gasoline/transportation fuel for consumer use | (G) Naphtha oils.
P-18-0262 | 2 | 09/05/2018 | SEPPIC | (S) Function: Thickener Applications: Paints, adhesive (S) Function: Polishes Applications: Wood care, leather care (S) Function: Stabilizer of suspensions, Applications: Detergency, treatment of physical surfaces, development of soaps | (S) 2-propenoic acid, 2-methyl-, dodecyl ester, polymer with ammonium 2-methyl-2-[(1-oxo-2-propen-1-yl)amino]-1-propanesulfonate (1:1), n,n-dimethyl-2-propenamide and .alpha.-(2-methyl-1-oxo-2-propen-1-yl)-.omega.-(dodecyloxy)poly(oxy-1,2-ethanediyl).
P-18-0277A | 3 | 09/12/2018 | CBI | (G) Adhesive | (G) Poly[2-(dimethylamino)ethyl acrylate chloride salt, vinyl acetate, methacrylic acid and alkyl acrylates].
P-18-0282A | 5 | 09/12/2018 | Ashland, Inc. | (G) Adhesive | (G) Fatty acid ester, polyether, diisocyanate polymer.
P-18-0283A | 2 | 09/04/2018 | CBI | (G) Open, non-dispersive use | (G) Hydroxy alkanoic acid, compds. with aminoalkoxyalcohol-epoxy polymer-alkanolamine reaction products.
P-18-0287A | 4 | 09/19/2018 | CBI | (G) Company plans to produce “tires, wastes, pyrolyzed, condensate oil fraction” (hereafter referred to as syn oil) (CASRN: 1312024-02-4) from scrap tire materials. The synthetic oil fraction from tire waste pyrolysis can be used in a variety of industries. Some examples of use of synthetic oil include use as a fuel, upgraded for use as a higher quality fuel, as an additive for asphalt or other complex mixtures, used to manufacture other chemicals, etc | (G) Synthetic oil from tires.
P-18-0289 | 2 | 09/20/2018 | CBI | (G) Gas scrubbing,(G) Wastewater deoderizing, (G) Landfill deoderizing, (G) Agricultural manure digester deodorizing | (G) 2-(2(methylcaboxymonocyclic)amino)ethoxy)-alcohol.
P-18-0290 | 2 | 09/20/2018 | CBI | (G) Wastewater deoderizing, (G) Landfill odor neutralizing, (G) Agricultural manure digester deodorizing, (G) Gas scrubbing | (G) Carbomonocylic-oxazolidine.
P-18-0297 | 1 | 09/04/2018 | CBI | (G) A Component of material for fabrication | (G) Substituted, (alkylaromatic)diaromatic salt with trihalo-[(trihaloalkyl)substituted]substituted alkaneamide.
P-18-0298 | 1 | 09/06/2018 | Hexion, Inc | (G) Epoxy curing agent | (G) 1,3-propanediol, 2-ethyl-2-(hydroxymethyl)-, polymer with ethyleneamine, 2-(chloromethyl)oxirane, 2-[[4-(1,1-dimethylethyl)phenoxy]methyl]oxirane, 2,2'-[1,6-hexanediylbis(oxymethylene)]bis[oxirane], 4,4'-(1-methylethylidene)bis[phenol], alkyl ether amine, and 2-[(2-methylphenoxy methyl]oxirane.
P-18-0299 | 1 | 09/07/2018 | CBI | (G) Ink additive | (G) Alkenoic acid, alkyl-, polymers with alkyl methacrylate, cycloalkyl methacrylate, alkylene dimethacrylate, and polyalkene glycol hydrogen sulfate [(branched alkyloxy)alkyl]-(alkenyloxy)alkyl ethers ammonium salts, metal salts.
P-18-0300 | 1 | 09/10/2018 | CBI | (S) Additive for automatic dishwashing detergent | (G) Heteromonocycle, alkenoic 1:1 salt, polymer with alpha-(2-methyl-1-oxo-2-propen-1-y)l-omegamethoxypoly(oxy-1,2-ethanediyl) and methyl-alkenoic acid.
P-18-0301 | 1 | 09/10/2018 | CBI | (G) Coating component | (G) Alkanedioic acid, polymer with cycloalkyl dimethanol, alkyl and cycloalkyl diisocyanates, dimethyl-alkanediol, dihydroxyalkanoic acid methylenebis[isocyanatocyclohexane, hydroxyethyl acrylate- and polyalkyl glycol monoalkyl ether blocked.
P-18-0302 | 1 | 09/10/2018 | CBI | (G) Chemical intermediate | (S) D-glucaric acid, ammonium salt (1:1).
P-18-0303 | 1 | 09/10/2018 | CBI | (G) UV curable oligomer | (G) 2-propenoic acid, polymer with aliphatic cyclic epoxide.
P-18-0303A | 2 | 09/21/2018 | CBI | (G) UV curable oligomer | (G) 2-propenoic acid, polymer with aliphatic cyclic epoxide.
P-18-0304 | 1 | 09/11/2018 | CBI | (G) An ingredient used in the manufacture of photoresist | (G) Sulfonium, bis(dihalocarbomonocycle) carbomonocycle, salt with substituted heteropolycycle dihalo sulfoalkanoate (1:1).
P-18-0305 | 1 | 09/12/2018 | CBI | (G) Component of ink | (G) Alkenoic acid, alkyl-,alkyl ester, polymer with alkyl alkenoate, substituted heteromonocycycle, substituted carbomonocycle, substituted alkanediol and alkenoic acid, alkali metal salt.
P-18-0306 | 1 | 09/13/2018 | Allnex USA, Inc | (S) Protective coating for flatbed and pickup truck liners | (S) 2-propenoic acid, 2-methyl-, 2-hydroxyethyl ester, polymer with butyl 2-propenoate, ethenylbenzene and 2-oxiranylmethyl 2-methyl-2-propenoate.
P-18-0307 | 1 | 09/14/2018 | CBI | (G) Binder resin in coatings | (G) Alkyl alkenoic acid, alkyl ester, telomer with alkyl alkenoate, substituted alkyl alkyl alkenoate, alkylthiol, substituted carbomonocycle, hydroxyalkyl alkyl alkenoate and alkyl alkyl alkenoate.
P-18-0308 | 2 | 09/18/2018 | CBI | (G) Additive for engineering plastics | (G) Bis[(hydroxyalkoxy)aryl]carbopolycyclic.
P-18-0310 | 1 | 09/18/2018 | Chitec Technology Co., Ltd | (G) Polymer additive | (S) Benzenepropanoic acid, 3-(2h-benzotriazol-2-yl)-5-(1,1-dimethylethyl)-4-hydroxy-, 2,2-bis(hydroxymethyl)butyl ester.
P-18-0311 | 1 | 09/19/2018 | CBI | (G) A component of material for fabrication | (G) Triarylsulfonium substituted oxatricycloalkyloxycarbonyl dihalo alkane sulfonate.
P-18-0312 | 1 | 09/20/2018 | CBI | (G) Dispersing agent | (G) Formaldehyde, polymer with 2-phenoxyalkanol and .alpha.-phenyl-.omega. hydroxypoly(oxy-1,2-alkylnediyl), dihydrogen phosphate 2-phenoxyalkyl hydrogen phosphate, alkaline salt.
P-18-0313 | 2 | 09/26/2018 | Ashland, Inc | (G) Adhesive | (G) Alkoxylated glycol ether with 1,2-propanediol, reaction products with alkyl alcohol blocked 1,1′-methylenebis [4-isocyanatobenzene] homopolymer and 1,1′-methylenebis [4-isocyanatobenzene].
P-18-0314 | 1 | 09/20/2018 | CBI | (G) A component of material for fabrication | (G) Substituted triarylsulfonium carbopolycyclic heteromonocyclic dihalo sulfoacetate.
P-18-0315 | 1 | 09/20/2018 | CBI | (G) A component of material for fabrication | (G) Substituted triarylsulfonium substituted carbopolycyclic carboxylate.
P-18-0316 | 1 | 09/20/2018 | CBI | (G) An ingredient used in the manufacture of photoresist | (G) Heteropolycycle, alkylaromatic-, salt with dihalo-substituted alkyl carbopolycycle carboxylate.
P-18-0317 | 1 | 09/20/2018 | CBI | (G) An ingredient used in photoresist manufacture | (G) Sulfonium, alkanoyl substituted carbomonocyclic aromatic]diaromatic-, trihalotris(polyhaloalkyl)phosphate(1-) (1:1).
P-18-0318 | 1 | 09/20/2018 | Gelest | (S) Research (S) Surface treatment for added lubricity and anti-static properties | (S) 1-octadecanaminium, n,n-dimethyl-n-[3-(triethoxysilyl)propyl]- chloride.
P-18-0319 | 1 | 09/20/2018 | CBI | (G) Intermediate for manufacture of plasticizer | (G) Plant oil fatty acids, alkyl esters.
P-18-0320 | 1 | 09/21/2018 | CBI | (G) Hardner | (G) Alkane, diisocyanato-(isocyanatoalkyl)-.
P-18-0321 | 1 | 09/21/2018 | CBI | (G) Intermediate for use in chemical manufacture | (G) Poly(oxy-ethanediyl), (methyl ethanediyl)bis[hydroxy-.
P-18-0322 | 1 | 09/21/2018 | CBI | (G) The notified substance is used as a fragrance ingredient in consumer products | (G) Heteromonocycle, 4,6-dimethyl-2-(1-phenylethyl)-.
P-18-0322 | 3 | 09/28/2018 | CBI | (G) The notified substance is used as a fragrance ingredient in consumer products | (G) Heteromonocycle, 4,6-dimethyl-2-(1-phenylethyl)-.
P-18-0323 | 1 | 09/21/2018 | Kuraray America, Inc | (G) Raw material for polymer manufacturing | (S) 2-propenoic acid, 2-methyl-, 3-methyl-3-buten-1-yl ester.
P-18-0324 | 2 | 09/25/2018 | CBI | (S) Resin/binder in paint formulations for industrial and architectural applications | (G) Organic acid dimethyl ester, polymer with mixed alkanediols and 5-isocyanato-1-(isocyanatomethyl)-1,3,3-trimethylcyclohexane, trimethoxysilylalkylalkanamine-blocked.
P-18-0325 | 1 | 09/24/2018 | Allnex USA, Inc | (S) Industrial crosslinking catalyst | (G) Benzenesulfonic acid, alkyl-, compd. with 1,1′-iminobis[2-propanol] (1:1).
P-18-0327 | 3 | 09/26/2018 | CBI | (G) Filler for non-dispersive resins | (G) Mixed metal oxide.
P-18-0328 | 1 | 09/25/2018 | CBI | (G) Chemical intermediate for the manufacture of plasticizer | (G) Plant oil fatty acids, alkyl esters.
P-18-0329 | 1 | 09/25/2018 | CBI | (G) Component of lenses used in electronic applications | (G) Substituted carbopolycyclic dicarboxylic acid dialkyl ester, polymer with alkanediol and carbopolycyclic bis (substituted carbopolycycle) bisalkanol.
P-18-0330 | 1 | 09/25/2018 | CBI | (G) Initiator | (G) Formaldehyde, polymer with alkyl aryl ketone.
P-18-0331 | 1 | 09/25/2018 | Evonik Corporation | (S) Substrate wetting and anti-cratering additive for inks | (S) Siloxanes and silicones, di-me, 3-(4-hydroxy-3-methoxyphenyl)propyl me, ethoxylated propoxylated.
P-18-0332 | 1 | 09/25/2018 | CBI | (G) A component in building materials | (S) Canola meal.
P-18-0333 | 1 | 09/25/2018 | CBI | (G) A component in building materials | (S) Flaxseed meal.
P-18-0334 | 1 | 09/26/2018 | Sirrus, Inc | (S) Intermediate use | (S) Propanedioic acid, 1,3-dihexyl ester.
P-18-0335 | 1 | 09/26/2018 | Sirrus, Inc | (S) Intermediate use | (S) Propanedioic acid, 1,3-dicyclohexyl ester.
P-18-0336 | 1 | 09/26/2018 | Sirrus, Inc | (S) Intermediate use | (S) Propanedioic acid, 2,2-bis(hydroxymethyl)-, 1,3-dihexyl ester.
P-18-0337 | 1 | 09/26/2018 | Sirrus, Inc | (S) Intermediate use | (S) Propanedioic acid, 2,2-bis(hydroxymethyl)-, 1,3-dicyclohexyl ester.
P-18-0338 | 1 | 09/26/2018 | CBI | (G) An ingredient used in the manufacture of photoresist | (G) Sulfonium, triaryl-, salt with polyhalo-4-sulfoalkyl polycarbocyclic alkane-1-carboxylate (1:1).
P-18-0339 | 1 | 09/26/2018 | Hitachi America, Ltd | (S) The PMN substance is the immobilizing agent for the microbial promoter of nitrogen decomposition | (G) Alkyl heteromonocycle with heteroatom substituted alkyl cycloalkane and 2-hydroxyethyl heteromonocycle methacrylate-blocked homopolymer.
P-18-0340 | 1 | 09/26/2018 | Lanxess Solutions US, Inc | (S) One component thermoset elastomer manufacture | (S) Poly(oxy-1,4-butanediyl), ¿-hydro-¿-hydroxy-, polymer with hexahydro-2h-azepin-2-one and 1,1′-methylenebis[4-isocyanatobenzene].
P-18-0345 | 1 | 09/26/2018 | Chitec Technology Co., Ltd | (S) R-gen 990 is a liquid aminoketone-based photoinitator (PI) intended for use as an ultraviolet (UV) curing agent in highly pigmented inks, photo-resists, and masks | (S) 1-butanone, 2-(dimethylamino)-1-[4-(2-ethyl-2-methyl-3-oxazolidinyl)phenyl]-2-(phenylmethyl)-
P-18-0346 | 2 | 09/29/2018 | Chitec Technology Co., Ltd | (S) Antioxidant compounded into various polymers to be used in extrusion processes to fabricate articles | (S) 2,4,8,10-tetraoxa-3,9-diphosphaspiro[5.5]undecane, 3,9-bis-[2-(1-methyl-1-phenylethyl)-4-(1,1,3,3-tetramethylbutyl)phenoxy]-.
P-18-0347 | 1 | 09/27/2018 | Evonik Corporation | (S) Aldehyde scavenger for the manufacture of polyurethane foams | (S) Amines, polyethylenepoly-, triethylenetetramine fraction, polymers with guanidine hydrochloride (1:1).
P-18-0348 | 1 | 09/27/2018 | Lanxess Solutions US, Inc | (S) Thermoplastic elastomer manufacture/Injection Moulding | (S) Ethanol, 2,2'-[1,4-phenylenebis(oxy)]bis-, polymer with 1,6-diisocyanatohexane and ¿-hydro-¿-hydroxypoly(oxy-1,4-butanediyl).
P-18-0349 | 1 | 09/27/2018 | Lanxess Solutions US, Inc | (S) Two component adhesives and protective coatings for marine, infrastructure, etc. | (S) 1,2,3-propanetriol, polymer with 2,4-diisocyanato-1-methylbenzene, methyloxirane and oxirane, nonylphenol blocked
P-18-0350 | 1 | 09/27/2018 | Evonik Corporation | (S) Filler & pigment treatment, (S) Additive in water-borne UV-curable coatings, (S) Glass fiber treatment | (G) Aqueous methacrylamido modified polysiloxane.
P-18-0351 | 1 | 09/27/2018 | CBI | (G) UV curable inks | (G) Acrylic acid, tricyclo alkyl ester.
P-18-0352 | 1 | 09/27/2018 | 3M Company | (G) Gap filler | (G) Poly(hetero(alkyl-1,2-alkenyl)], alpha-[[[3-(1-heteromonocycle)alkyl)substituted heteroatom]heteroatom-substituted alkyl]]-omega- [[[[3-(1-heteromonocycle)alkyl]]substituted heteroatom] heteroatom-substituted alkyl]]heteroatom]-.
P-18-0353 | 1 | 09/27/2018 | CBI | (G) Adhesive | (G) Phenolic resin, alkali, polymer with acetone-phenol reaction products, formaldehyde and phenol, sodium salts.
P-18-0354 | 1 | 09/27/2018 | CBI | (G) Adhesive | (G) Phenolic resin, alkali, polymer with acetone-phenol reaction products, formaldehyde and phenol, potassium salts.
P-18-0355 | 1 | 09/27/2018 | CBI | (G) Paint | (G) Alkanediol, substituted alkyl, polymer with carbomonocyle, alkanedioate substituted carbomonocycle, ester with substituted alkanoate.
P-18-0356 | 1 | 09/27/2018 | CBI | (G) Adhesive | (G) Sulfonated phenolic resin salt, polymer with acetone-phenol reactioin products, formaldehyde and phenol, sodium salt.
P-18-0357 | 1 | 09/27/2018 | CBI | (G) Adhesive | (G) Sulfonated phenolic resin salt, polymer with acetone-phenol reactioin products, formaldehyde and phenol, potassium salt.
P-18-0358 | 1 | 09/27/2018 | Shikoku International Corporation | (S) Industrial Adhesive for Electronics, (S) Carbon Fiber Reinforced Plastics (CFRP) Prepreg | (S) 1h-imidazole-1-propanenitrile,2-ethyl-ar-methyl-.
P-18-0359 | 1 | 09/28/2018 | CBI | (G) Molded or extruded items | (G) Methoxy vinyl ether- vinylidene fluoride polymer.
P-18-0360 | 1 | 09/28/2018 | Lanxess Solutions US, Inc | (S) Two component adhesives and protective coatings for marine, infrastructure, etc | (S) Oxirane, 2-methyl-, polymer with 2,4-diisocyanato-1-methylbenzene, 2-methyloxirane polymer with oxirane ether with 1,2,3-propanetriol (3:1), and oxirane, cashew nutshell liq.- and pr alc. -blocked.
P-18-0361 | 1 | 09/28/2018 | Lanxess Solutions US, Inc | (S) Electrophoretic paint | (S) Hexane, 1,6-diisocyanato-, homopolymer, 2,2-dimethyl-3-hydroxypropanoic acid- and 3,5-dimethyl-1H-pyrazole-blocked.
P-18-0362 | 1 | 09/28/2018 | Lanxess Solutions US, Inc | (S) Corrosion protection coatings | (S) 1,3-propanediol, 2-ethyl-2-(hydroxymethyl)-, polymer with 2,4-diisocyanato-1-methylbenzene, alpha-hydro-omega-hydroxypoly[oxy(methyl-1,2-ethanediyl)] and alpha,alpha′,alpha″-1,2,3-propanetriyltris[omega-hydroxypoly[oxy(methyl-1,2-ethanediyl)]], me et ketone oxime -blocked.
P-18-0363 | 1 | 09/28/2018 | CBI | (G) Adhesive | (G) Phenol, polymer with formaldehyde, 5-methyl-1,3-benzenediol-terminated,sodium salts.
P-18-0364 | 1 | 09/28/2018 | ONA Polymers | (G) Industrial quality control additive | (G) Alkali humates, polymers with substituted acrylamides.
P-18-0369 | 1 | 09/28/2018 | CBI | (G) Processing aid | (G) Maleic anhydride—substituted alkene copolymer.
P-18-0370 | 1 | 09/28/2018 | CBI | (G) Processing aid | (G) Salt of a maleic anhydride and substituted alkene copolymer.
P-18-0371 | 1 | 09/28/2018 | CBI | (G) Processing aid | (G) Salt of a maleic anhydride—substituted alkene copolymer.
P-18-0379 | 1 | 09/28/2018 | Cardolite Corporation | (G) Hardener for waterborne epoxy system | (G) Cashew nutshell liquid polymer with epichlorohydrin, formaldehyde, phenol, amines and glycol.
P-18-0381 | 1 | 09/28/2018 | The Shepherd Color Company | (G) For use in exterior paints and plastics, (G) for use in coatings, (G) for use in high temperature engineering polymers, (G) for use in artist materials | (S) Indium manganese yttrium oxide.
P-18-0382 | 1 | 09/28/2018 | CBI | (G) Dye for printing ink | (G) Xanthylium, bis[dicarboxycyclic]sulfonylamino-alkylcyclicamino-disulfo-sulfocyclic-, inner salt, monocationic salt.
P-18-0383 | 1 | 09/28/2018 | CBI | (G) Coatings and inks for commercial use | (G) Dialkyl-alkanediamine, polymer with [(oxo-alkenyl)oxy]poly(oxy-alkanediyl)ether with bis(hydroxyalkyl)-alkanediol.
P-18-0384 | 1 | 09/28/2018 | Sigma-Aldrich CO LLC | (S) Starting material for manufacture of 6Lithium chloride scintillation crystals for use in radiation detection | (S) Lithium 6.
P-18-0386 | 1 | 09/28/2018 | CBI | (G) Electronic use | (G) Alkylalkenyldicyclohexane.
P-18-0387 | 1 | 09/28/2018 | CBI | (G) Plastic Additive | (G) Alkanal, reaction products with alkanediyl bis[alkyl-tris(alkyl-heterocycle)-1,3,5-triazine-2,4,6-triamine and hydrogen peroxide.
P-18-0388 | 1 | 09/28/2018 | CBI | (G) Plastic additive | (G) 1,3,5-triazine-2,4,6-triamine, alkanediyl bis[alkyl-tris(alkyl-heterocycle)-, allyl derivs., oxidized, hydrogenated.
P-18-0389 | 1 | 09/28/2018 | CBI | (G) Component in package coatings | (G) Alkenoic acid, alkyl-substituted, epoxy ester, polymer with alkyl alkenoate, alkene, and polylactide.
P-18-0390 | 1 | 09/28/2018 | CBI | (S) Lubricant additive for engine oils, industrial oils and greases | (G) Formaldehyde, reaction products with diphenylamine, heteromonocycle and alkene.
P-18-0391 | 1 | 09/28/2018 | Colonial Chemical, Inc | (S) Liquid Laundry Detergent | (S) 1-propanaminium, n-(carboxymethyl)-n, n-dimethyl-3-[(3,5, 5-trimethyl-1-oxohexyl), amino]- inner salt.
P-18-0393 | 1 | 09/28/2018 | CBI | (G) Paint | (G) Alkenoic acid, alkyl, alkyl ester, polymer with alkyl propenoate, vinyl carbomonocyle, substituted alkyl propenoate, alkyl 2-alkyl 2-propenoate, alkanediol mono(2-alkyl-2-propenoate) and bicarbomonocylo alkyl 2-alkyl-2-alkenoate, tertiary alkyl substituted alkane peroxoate initiated.
P-18-0394 | 1 | 09/28/2018 | CBI | (G) Chemical Intermediate | (G) Substituted benzylic ether polyethylene glycol alkyl ether derivative.
P-18-0395 | 1 | 09/28/2018 | Shell Chemical, LP | (S) Intermediate for manufacturing a chemical for use in enhanced oil recovery operations | (S) Alkenes, c17-25, branched and linear.
P-18-0396 | 1 | 09/28/2018 | CBI | (G) Paint | (G) Alkenoic acid, alkyl, polymer with carbomonocyle alkyl propenoate and substituted alkyl alkenoate, ester with substituted alkyl alkanoate, tert-butyl substituted peroxoate-initiated.
P-18-0397 | 1 | 09/29/2018 | CBI | (G) Additive in oil field chemicals | (G) Substituted alkanedioic acid, polymer with substituted alkanoic acid.
P-18-0398 | 1 | 09/29/2018 | CBI | (S) Intermediate | (S) 1,2-ethanediamine, n-(1-methylethyl)-n-[2-[(1-methylethyl)amino]ethyl]-.
P-18-0399 | 1 | 09/29/2018 | CBI | (G) (c) Open, non-dispersive use additive for industrial use only | (G) Rosin adduct ester neutralized with amine.
P-18-0400 | 1 | 09/29/2018 | CBI | (G) Open, non-dispersive use, additive for textile industry | (G) Rosin adduct ester, neutralized with koh.
P-18-0401 | 1 | 09/29/2018 | CBI | (G) Additive | (S) Glycerides, c16-18 and ci8-unsatd. mono- and di-, citrates.
P-18-0402 | 1 | 09/29/2018 | CBI | (G) Fuel additive | (G) Phenol, alkanepolyolbis(heteroalkylene)bis-, polyalkylene derivs..
SN-16-0013A | 2 | 09/27/2018 | CBI | (G) Surfactant | (G) Polyfluorinated alkyl quaternary ammonium chloride.
SN-18-0005A | 2 | 09/28/2018 | CBI | (G) Monomer for industrial adhesives, coatings and inks | (S) Butanoic acid, 3-mercapto-, 1,1′-[2-(hydroxymethyl)-2-[(3-mercapto-1-oxobutoxy)methyl]-1,3-propanediyl] ester]; (S) Butanoic acid, 3-mercapto-,1,1′-[2,2-bis[(3-mercapto-1-oxobutoxy)methyl]-1,3-propanediyl] ester.
SN-18-0006A | 2 | 09/20/2018 | Colonial Chemical, Inc | (S) Wetting agent for low foam laundry, home care and industrial cleaning | (S) Poly(oxy-1,2-ethanediyl), .alpha.-(2-methyl-2-propen-1-yl)-.omega.-hydroxy-, c10-16-alkyl ethers.
SN-18-0007A | 2 | 09/20/2018 | Colonial Chemical, Inc | (S) Wetting agent for low foam laundry, home care and industrial cleaning | (S) Poly(oxy-1,2-ethanediyl), ¿-(2-methyl-2-propen-1-yl)-¿-hydroxy-, c12-16-alkyl ethers.
SN-18-0008A | 2 | 09/20/2018 | Colonial Chemical, Inc | (S) Wetting agent for low foam laundry, home care and industrial cleaning | (S) Poly(oxy-1,2-ethanediyl), .alpha.-(2-methyl-2-propen-1-yl)-.omega.-hydroxy-, c12-15-alkyl ethers.
SN-18-0010 | 1 | 09/27/2018 | Colonial Chemical, Inc | (S) Wetting agent for low foam laundry, home care and industrial cleaning | (S) Poly(oxy-1,2-ethanediyl), .alpha.-(2-methyl-2-propen-1-yl)-.omega.-hydroxy-, c10-16-alkyl ethers.
SN-18-0011 | 1 | 09/27/2018 | Colonial Chemical, Inc | (S) Wetting agent for low foam laundry, home care and industrial cleaning | (S) Poly(oxy-1,2-ethanediyl), ¿-(2-methyl-2-propen-1-yl)-¿-hydroxy-, c12-16-alkyl ethers.
SN-18-0012 | 1 | 09/27/2018 | Colonial Chemical, Inc | (S) Wetting agent for low foam laundry, home care and industrial cleaning | (S) Poly(oxy-1,2-ethanediyl), .alpha.-(2-methyl-2-propen-1-yl)-.omega.-hydroxy-, c12-15-alkyl ethers.
SN-18-0013 | 1 | 09/28/2018 | CBI | (G) Lithiated metal oxide for batteries | (G) Lithiated metal oxide.
SN-18-0014 | 1 | 09/29/2018 | Hexion, Inc | (S) Reactive monomer for the production of inks, in both aqueous and waterborne systems, (S) Reactive monomer for the production of paints and coatings, in both aqueous and solvent systems, (S) Reactive monomer for the production of adhesives, in both aqueous and waterborne systems. | (S) Neononanoic acid, ethenyl ester.

In Table II of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—TMEs Received From 9/1/2018 to 9/30/2018
Case No. | Submission type | Version | Received date | Manufacturer | Use | Chemical substance
T-18-0003A | Test Marketing Exemption Application (TMEA) | 3 | 09/06/2018 | CBI | (G) Additive | (G) Alkylated diphenylamines, homopolymers.

In Table III. of this unit, EPA provides the following information (to the extent that such information is not claimed as CBI) on the NOCs received by EPA during this period: The EPA case number assigned to the NOC including whether the submission was an initial or amended submission, the date the NOC was received by EPA, the date of commencement provided by the submitter in the NOC, a notation of the type of amendment (e.g., amendment to generic name, specific name, technical contact information, etc.) and chemical substance identity.

Table III—NOCs Received From 9/1/2018 to 9/30/2018
Case No. | Received date | Commencement date | If amendment, type of amendment | Chemical substance
J-15-0024 | 09/24/2018 | 09/05/2018 |  | (G) Modified trichoderma reesei.
J-16-0010A | 09/24/2018 | 09/23/2016 | Update CBI substantiation | (G) Genetically modified saccharomyces yeast.
J-16-0019 | 09/24/2018 | 09/11/2018 |  | (G) Modified trichoderma reesei.
J-16-0020 | 09/24/2018 | 09/05/2018 |  | (G) Modified trichoderma reesei.
J-16-0025 | 09/24/2018 | 09/11/2018 |  | (G) Modified trichoderma reesei.
J-17-0001 | 09/11/2018 | 09/05/2018 |  | (G) Modified saccharomyces cerevisiae.
J-17-0004 | 09/07/2018 | 09/05/2018 |  | (G) Modified saccharomyces cerevisiae.
P-11-0432 | 09/26/2018 | 09/10/2018 |  | (S) Tricyclo[7.3.3.15,11]heptasiloxane-3,7,14-triol,1,3,5,7,9,11,14-heptaisooctyl-, stereoisomer.
P-13-0051 | 09/06/2018 | 09/06/2018 |  | (G) Fatty acid amide.
P-14-0015 | 09/06/2018 | 09/06/2018 |  | (G) Fatty acid amide.
P-14-0098A | 09/18/2018 | 10/15/2016 | Re-substantiating all CBI claims to comply with the Chemical Safety for the 21st Century Act | (G) Polyalkylene polymer, anhydride reaction products, imidated.
P-14-0269A | 09/07/2018 | 06/09/2014 | The cover letter has been amended to clarify certain language which was unintentionally misleading | (S) Methanone, bis(4-fluorophenyl)-, polymer with 1,4-benzenediol and [1,1′—biphenyl]-4,4′-diol.
P-14-0347 | 09/27/2018 | 09/13/2018 |  | (G) Isocyanic acid, polymethylenepolyphenylene ester, polymer with .alpha.-hydro-.omega.-hydroxypolyether and .alpha., alpha.′-[(alkylimino)di-2,1-ethanediyl]bis[.omega.-hydroxypolyether], acetate (salt) sulfamate (salt).
P-14-0496 | 09/24/2018 | 09/13/2018 |  | (G) Polyphosphoric acids, 2-[(alkyl1-oxo-2-propen-1-yl)oxy]ethyl esters, compds. with n-(aminoiminomethyl)urea, polymers with bu acrylate, n-(hydroxymethyl)-propenamide and styrene.
P-15-0150 | 09/20/2018 | 09/20/2018 |  | (G) Cyclohexanedicarboxylic acid, dialkyl ester.
P-16-0117A | 09/25/2018 | 10/21/2016 | Amending the form to include CBI substantiation, in response to a notice of deficiency, and adding the CASRN to the NOC | (S) Magnesium hydroxide hypochlorite oxide.
P-16-0331 | 09/13/2018 | 09/10/2018 |  | (G) Hydroxy functional triglyceride polymer with glycerol mono-ester and 1,1′-methylenebis[isocyanatobenzene].
P-17-0007 | 09/27/2018 | 09/20/2018 |  | (G) Alkyl substituted-dioxa thio substituted-ether diene,.
P-17-0049 | 09/11/2018 | 08/17/2018 |  | (G) Haloalkyl substituted carbomonocycle.
P-17-0172 | 09/18/2018 | 09/13/2018 |  | (G) Branched alkylphenol, sulfurized, calcium salts, overbased.
P-18-0051 | 09/06/2018 | 09/06/2018 |  | (G) Alkenoic acid, reaction products with [oxybis(alkylene)]bis[(substituted alkyl)-alkanediol], polymers with isocyanatoalkane and substituted alkanoic acid, substituted monoacrylate alkanoate-blocked.
P-18-0142 | 09/27/2018 | 09/23/2018 |  | (G) Alkenoic acid, alkyl-, alkyl ester, polymer with substituted alkenoates, alkenoic acid, alkyl peroxoate-initiated.
P-87-0910 | 09/07/2018 | 04/14/2009 |  | (S) 2-cyclopentene-1-acetic acid, alpha allyl, ethyl ester*.

In Table IV. of this unit, EPA provides the following information (to the extent such information is not subject to a CBI claim) on the test information received by EPA during this time period: The EPA case number assigned to the test information; the date the test information was received by EPA, the type of test information submitted, and chemical substance identity.

Table IV—Test Information Received from 9/1/2018 to 9/30/2018
Case No. | Received date | Type of test information | Chemical substance
P-15-0583 | 9/7/2018 | Bioaccumulation in Fish: Aqueous and Dietary Exposure (OECD 305) | (G) butanedioic acid, alkyl amine, dimethylbutyl ester.
P-17-0283 | 9/11/2018 | Local Lymph Node Assay in Mice (LLNA) (OECD 406) | (G) Arenesulfonic acid, alkyl derivatives, metal salts.
P-18-0094 | 9/11/2018 | Particle size analysis | (G) pentacyclo[9.5.1.13,9.15,15.17,13]octasiloxanealkylsubstituted, 3,5,7,9,11,13,15-heptakis(polyfluoroalkyl)-.
P-18-0140 | 9/9/2018 | In Vitro Mammalian Chromosome Aberration Test (OECD 473), Skin sensitization (DEREK modeling), Fish Acute Toxicity Study (OECD 203), Activated Sludge, Respiration Inhibition Test (Carbon and Ammonium Oxidation) (OECD 209), Validation of Analytical Procedures: Text and Methodology (ICH Harmonised Tripartite Guideline Q2) | (G) methyl modified lactam.
P-18-0141 | 9/9/2018 | In Vitro Mammalian Chromosome Aberration Test (OECD 473), “Activated Sludge, Respiration Inhibition Test (Carbon and Ammonium Oxidation) (OECD 209), Skin sensitization (DEREK modeling) | (G) ethyl modified lactam.
P-18-0150 | 9/12/2018 | Developmental Toxicity Study in Rats After Inhalation | (G) tertiary amine, compounds with amino sulfonic acid blocked aliphatic isocyanate homopolymer.

If you are interested in information that is not included in these tables, you may contact EPA's technical information contact or general information contact as described under FOR FURTHER INFORMATION CONTACT to access additional non-CBI information that may be available.

Authority: 15 U.S.C. 2601 et seq.

Dated: March 14, 2019.
Pamela Myrick,
Director, Information Management Division, Office of Pollution Prevention and Toxics.

[FR Doc. 2019-05376 Filed 3-20-19; 8:45 am]

BILLING CODE 6560-50-P